DEPARTMENT OF ENERGY

Commission on Fire Safety and Preparedness

AGENCY: Department of Energy.

ACTION: Notice of Open Meeting.

SUMMARY: This notice announces the Final Public meeting of the Commission on Fire Safety and Preparedness. The Federal Advisory Committee Act (Pub. L. 92-463, 86 Stat. 770), requires that public notice of the meetings be announced in the Federal Register.

DATES: Tuesday, July 9, 2002, 9 a.m. to 12:30 p.m.

ADDRESSES: Department of Energy, 1000 Independence Avenue, SW., Room 1E-245 Washington, DC 20585. Please call (301) 903-1114 to register in advance for the meeting and on the meeting date, please arrive at 8:30 a.m. for registration confirmation and building access.

FOR FURTHER INFORMATION CONTACT: Frank Russo, U.S. Department of Energy, 1000 Independence Avenue, SW., Washington, DC 20585, telephone number 301-903-1114, e-mail: frank.russo@eh.doe.gov.

SUPPLEMENTARY INFORMATION: Purpose of the Meeting: To provide a forum for a review and discussion of the recommendations of the Department of Energy (DOE) Fire Safety and Preparedness Commission for enhancements to the Department's site and Headquarters fire safety programs. The meeting will also provide an opportunity for DOE representatives to respond to the Commission's suggestions and to allow the public to comment on the Commission's recommendations.

Tentative Agenda

Welcome Remarks

Overview of the Scope of the Responsibilities of the DOE Fire Safety and Preparedness Commission

Review of the Accomplishments of the Four Commission Subcommittees

Discussion of the Recommendations of the Commission to the Secretary of Energy

DOE Representatives Response

Public Comment Period

Public Participation: The meeting is open to the public on a first-come, first-served basis because of limited seating. Written statements may be filed with the Commission before or after the meeting. Members of the public who wish to make oral statements pertaining to agenda items should contact Frank Russo at the number above. Requests to make oral statements must be made and received five days prior to the meeting; reasonable provision will be made to include the statement in the agenda. The Chair of the Commission is empowered to conduct the meeting in a fashion that will facilitate the orderly conduct of business.

Minutes: The minutes of this meeting will be available for public review and copying at the Freedom of Information Reading Room, 1E-190, Forrestal Building, 1000 Independence Avenue, SW., Washington, DC, between 9 a.m. and 4 p.m., Monday through Friday, except holidays.

Issued in Washington, DC, on June 18, 2002.
Rachel M. Samuel,
Deputy Advisory Committee Management Officer.

[FR Doc. 02-15855 Filed 6-21-02; 8:45 am]

BILLING CODE 6450-01-P